DEFENSE NUCLEAR FACILITIES SAFETY BOARD

Sunshine Act Meeting Postponed

AGENCY: Defense Nuclear Facilities Safety Board.

ACTION: Notice of public meeting postponement.

SUMMARY: The Defense Nuclear Facilities Safety Board (Board) published a document in the Federal Register of March 3, 2011 (76 FR 11764), concerning notice of a public hearing and meeting on March 31, 2011, with regard to the Department of Energy's and National Nuclear Security Administration's safety management and oversight of the contracts and contractors they rely upon to accomplish the mission assigned under the Atomic Energy Act of 1954, as amended, at defense nuclear facilities. The public hearing and meeting has been postponed. The Board intends to reschedule the hearing and meeting and will publish a notice of the rescheduled date in the Federal Register when that date has been determined.

FOR FURTHER INFORMATION CONTACT: Brian Grosner, General Manager, Defense Nuclear Facilities Safety Board, 625 Indiana Avenue, NW., Suite 700, Washington, DC 20004-2901, (800) 788-4016. This is a toll-free number.

Dated: March 28, 2011.
Peter S. Winokur,
Chairman.

[FR Doc. 2011-7612 Filed 3-28-11; 4:15 pm]

BILLING CODE 3670-01-P